DEPARTMENT OF HEALTH AND HUMAN SERVICES

[Document Identifier: OS-0990-0476]

Agency Information Collection Request; 30-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 6, 2021.

ADDRESSES: Submit your comments to Sherrette.Funn@hhs.gov or by calling (202) 795-7714.

FOR FURTHER INFORMATION CONTACT: When submitting comments or requesting information, please include the document identifier 0990-0476, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: ASPA COVID-19 Public Education Campaign Market Research.

Type of Collection: OMB #0990-0476.

Abstract: U. S. Department of Health and Human Services (HHS), the Office of the Secretary, the Office of the Assistant Secretary for Public Affairs (ASPA), is requesting an extension on a currently approved collection that includes three components: 1. COVID-19 Current Events Tracker; 2. Foundational Focus Groups; and 3. Copy Testing Surveys. Together, these efforts support the development and execution of the COVID-19 Public Education Campaign. The broad purpose of each effort is as follows:

Current Events Tracker

The primary purpose of the COVID-19 Current Events Tracker (CET) survey is to continuously track key metrics of importance to the Campaign, including vaccine confidence, familiarity with and trust in HHS, and the impact of external events on key attitudes and behaviors. Tracking Americans' attitudes about, perceptions of, and behavior toward the COVID-19 pandemic will inform the Campaign of key metrics around vaccine confidence and uptake, as well as towards vaccine messengers such as HHS and key public health officials. It will also inform changes in messaging strategies necessary to effectively reach the entire U.S. population or specific subgroups.

The weekly tracking of this information will be critical for the Campaign's ability to respond to shifting events and attitudes in real-time, helping guide the American public with accurate information about the vaccine rollout as well as on how to take protective actions.

Foundational Focus Groups

ASPA is collecting information through the COVID-19 Public Education Campaign Foundational Focus Groups to inform the Campaign about audience risk knowledge, perceptions, current behaviors, and barriers and motivators to healthy behaviors (including COVID-19 vaccination). Ultimately these focus groups will provide in-depth insights regarding information needed by Campaign audiences as well as their attitudes and behaviors related to COVID-19 and the COVID-19 vaccines. These will be used to inform the development of Campaign messages and strategy.

Copy Testing Surveys

Prior to placing Campaign advertisements in market, ASPA will conduct copy testing surveys to ensure the final Campaign messages have the intended effect on target attitudes and behaviors. Copy testing surveys will be conducted with sample members who comprise the target audiences; these surveys will assess perceived effectiveness of the advertisements as well as the effect of exposure to an ad on key attitudes and behavioral intentions. The results from these surveys will be used internally by ASPA to inform decisions on Campaign messages and materials; for example, to identify revisions to the materials or determine which advertisement to move to market.

Need and Proposed Use: In light of the current COVID-19 crisis, this information is needed given the impact of the pandemic on the nation. The Secretary of the Department of Health and Human Services (HHS) has declared a public health emergency effective January 27, 2020, under section 319 of the Public Health Service Act (42 U.S.C. 247d [1]) and renewed it continually since its issuance (see links to the determination here and here). Additionally, in accordance with 5 CFR 1320.13, HHS previously requested emergency submissions (sections 1320 (a)(2)(ii) and (2)(iii) of the federal regulations.

Estimated Annualized Burden Hour Table
| CET | Foundational focus groups | Copy testing survey
Hours to screen | N/A | .09 | 0.03
Screening completes (per wave) | N/A | 2,500 | 6,700
Screening participants (total/screened out) | N/A | 20,000/19,136 | 53,600/45,600
Hours to complete survey/group | 0.12 | 1.5 | 0.33
Participants (per wave/round) | 1,000 | 108 | 1,000
Number of waves/rounds | 92 | 8 | 8
Burden per wave/round | 120 | 387 | 330
Total participants | 92,000 | 864 | 8,000
Total respondents * | 92,000 | 20,000 | 53,600
Total burden hours | 11,040 | 3,096 | 4,248
* Total respondents = total participants for each effort + total people screened out.

Sum of All Studies

Total Respondents: 165,600.

Total Burden Hours: 18,384.

Sherrette A. Funn,
Paperwork Reduction Act Reports Clearance Officer, Office of the Secretary.

[FR Doc. 2021-11723 Filed 6-3-21; 8:45 am]

BILLING CODE 4150-25-P